DEPARTMENT OF THE INTERIOR

Bureau of Land Management

[CACA 63162, LLCAD06000.L51010000.ER0000.13X.LVRWB13B541]

Notice of Intent To Prepare a Joint Environmental Impact Statement and Environmental Impact Report for the West of Devers Upgrade Project, Riverside and San Bernardino Counties, CA

AGENCY: Bureau of Land Management, Interior.

ACTION: Notice of Intent.

SUMMARY: In compliance with the National Environmental Policy Act of 1969, as amended (NEPA), and the Federal Land Policy and Management Act of 1976, as amended, the Bureau of Land Management (BLM) Palm Springs/South Coast Field Office intends to prepare a joint Environmental Impact Statement and Environmental Impact Report (EIR/EIS) in cooperation with the California Public Utilities Commission (CPUC) in order to analyze Southern California Edison's proposal for the West of Devers Upgrade Project (WOD UP) in Riverside and San Bernardino Counties. This notice announces the beginning of the scoping process to solicit public comments and identify issues.

DATES: Comments on issues may be submitted in writing until July 31, 2014. The date(s) and location(s) of any scoping meetings will be announced at least 15 days in advance through local news media, newspapers and the BLM Web site at: http://www.blm.gov/ca/st/en/fo/cdd.html and at the CPUC Web site at: http://www.cpuc.ca.gov/environment/info/aspen/westofdevers/westofdevers.htm. In order to be included in the analysis, all comments must be received prior to the close of the 30-day scoping period or 15 days after the last public meeting, whichever is later. We will provide additional opportunities for public participation as appropriate.

ADDRESSES: You may submit comments on issues related to the West of Devers Upgrade Project by any of the following methods:

• Web site: http://www.blm.gov/ca/st/en/fo/palmsprings/transmission/WestOfDeversProject.html.

• Email: blm_ca_west_of_devers@blm.gov.

• Fax: 951-697-5299.

• Mail: ATTN: Field Manager; Palm Springs-South Coast Field Office, 1201 Bird Center Drive, Palm Springs, CA 92262.

Documents pertinent to this proposal may be examined at the BLM California Desert District Office and the Palm Springs/South Coast Field Office during regular business hours of 8:00 a.m. to 4:30 p.m., Monday through Friday, except holidays, and may be published as part of the EIS/EIR.

FOR FURTHER INFORMATION CONTACT: R. Brian Paul; telephone 760-337-4445; address ATTN: Field Manager; Palm Springs-South Coast Field Office, 1201 Bird Center Drive, Palm Springs, CA 92262; email rpaul@blm.gov. Contact Mr. Paul to have your name added to our mailing list. Persons who use a telecommunications device for the deaf (TDD) may call the Federal Information Relay Service (FIRS) at 1-800-877-8339 to contact Mr. Paul during normal business hours. The FIRS is available 24 hours a day, 7 days a week, to leave a message or question for Mr. Paul. You will receive a reply during normal business hours.

SUPPLEMENTARY INFORMATION: Southern California Edison (SCE) is proposing to upgrade and adjust the routes of the following existing 220 kV transmission lines within SCE's existing West of Devers right-of way corridor in incorporated and unincorporated areas of Riverside and San Bernardino Counties: Devers-El Casco (30 miles), El Casco-San Bernardino (14 miles), Devers-San Bernardino (43 miles), Devers-Vista No. 1 and No. 2 (45 miles), Etiwanda-San Bernardino (3.5 miles), and San Bernardino-Vista (3.5 miles). Of the overall 48-mile length of the transmission corridor, approximately 6 miles would cross the reservation Trust Lands (Reservation) of the Morongo Band of Mission Indians and approximately 1 mile is on BLM-administered public lands. The BLM lands are located east of the City of Banning and west of the City of Desert Hot Springs in Riverside County.

In addition to the transmission line improvements, substation equipment at Devers, El Casco, Etiwanda, San Bernardino, Timoteo and Tennessee and Vista Substations would be upgraded to accommodate the project changes to transmission and subtransmission systems. Construction of WOD UP would facilitate the full deliverability of new renewable energy generation resources now being developed in eastern Riverside County, including the BLM's Riverside East Solar Energy Zone into the Los Angeles area.

The WOD UP would facilitate progress towards meeting California's Renewable Portfolio Standard goals requiring utilities to produce 33 percent of their electricity sales from renewable energy sources by 2020. Large-scale renewable energy projects in eastern Riverside County play an important role in meeting California's renewable energy goals, allowing for immediate and sizeable deployment, driving costs down, and taking advantage of the state's best renewable energy resources. Additionally, these upgrades are required to comply with transmission reliability standards and will support integration of small scale electricity generation.

This document provides notice that the Palm Springs/South Coast BLM Field Office, Palm Springs, California, intends to prepare a joint EIS/EIR with the California Public Utilities Commission for the WOD UP, announces the beginning of the scoping process, and seeks public input on environmental issues and planning criteria. The purpose of the public scoping process is to determine relevant issues that will influence the scope of the environmental analysis, including alternatives, and guide the planning process. Preliminary issues for the EIR/EIS have been identified by BLM personnel; Federal, State, and local agencies; and other stakeholders. The issues include: Air quality and greenhouse gas emissions, biological resources including special status species, cultural resources, geology and soils, hazards and hazardous materials, hydrology and water quality, land use, noise, recreation, traffic, visual resources, cumulative effects, and areas with high potential for renewable energy development, and identification of opportunities to apply mitigation hierarchy strategies for on-site, regional, and compensatory mitigation.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Thomas Pogacnik,
Deputy State Director.

[FR Doc. 2014-15410 Filed 6-30-14; 8:45 am]

BILLING CODE 4310-40-P